DEPARTMENT OF DEFENSE

Department of the Air Force

[Docket ID USAF-2023-HQ-0006]

Proposed Collection; Comment Request

AGENCY: Department of the Air Force, Department of Defense (DoD).

ACTION: 60-Day information collection notice.

SUMMARY: In compliance with the Paperwork Reduction Act of 1995, the Department of the Air Force announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 16, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the CIO, Headquarters Air Force Safety Center, ATTN: Mr. Douglas MacCurdy, 9700 G. Ave., Kirtland AFB, NM 87117, at 505-846-0675.

SUPPLEMENTARY INFORMATION:

Title; Associated Form; and OMB Number: Air Force Safety Automated System; AF Form 978; OMB Control Number 0701-0164.

Needs and Uses: The Air Force collects mishap and safety-related information via AF Form 978, Supervisor Mishap/Incident Report or direct input into the Air Force Safety Automated System (AFSAS), via the Mishap Worksheet, by an assigned investigator. If an investigator uses the AF Form 978, that information will be manually input into the AFSAS once completed. Information will be collected in the AFSAS from individuals (respondents) who were injured or directly involved in the Mishap, or were an eyewitness to the Mishap. On the top of each collection instrument, the OMB control number and expiration date, as well as our Privacy Act Statement are documented for review by respondents. Respondents do not have direct access to the AFSAS or collected information.

Information collected in the AFSAS is utilized directly by assigned Safety Managers and Investigators, to evaluate mishap events for prevention analysis. Each organization staff will compare the information against DoD standards to determine if safety is enforced and to evaluate the safety profile of their organization. Included will be specific recommendations for risk mitigation/reduction in order to preserve assets and save lives. The Air Force Safety Program addresses the maintenance of safe and healthful conditions in the workplace or the occupational environment. It is applicable to all Air Force civilian and military personnel and operations, aviation or occupational functions.

Affected Public: Business or other for-profit; individuals or households.

Annual Burden Hours: 200.

Number of Respondents: 200.

Responses per Respondent: 1.

Annual Responses: 200.

Average Burden per Response: 1 hour.

Frequency: On occasion.

Dated: April 12, 2023.
Kayyonne T. Marston,
Alternate OSD Federal Register Liaison Officer, Department of Defense.

[FR Doc. 2023-08049 Filed 4-14-23; 8:45 am]

BILLING CODE 5001-06-P